DEPARTMENT OF HEALTH AND HUMAN SERVICES

National Institutes of Health

Prospective Grant of Exclusive License: “P2X7 Receptor Antagonists”

AGENCY: National Institutes of Health, Public Health Service, DHHS.

ACTION: Notice.

SUMMARY: This is notice, in accordance with 35 U.S.C. 209(c)(1) and 37 CFR 404.7(a)(1)(i), that the National Institutes of Health (NIH), Department of Health and Human Services, is contemplating the grant of an exclusive license worldwide to practice the invention embodied in: U.S. Patent Application Serial No. 60/334,130, filed November 30, 2001, entitled, “P2X7 Receptor Antagonists” to Adenosine Therapeutics, having a place of business in the state of Virginia. The field of use may be limited to human therapy. The United States of America is the assignee of the patent rights in this invention.

DATES: Only written comments and/or application for a license, which are received by the NIH Office of Technology Transfer on or before October 28, 2002 will be considered.

ADDRESSES: Requests for a copy of the patent applications, inquiries, comments and other materials relating to the contemplated license should be directed to: Marlene Shinn, Technology Licensing Specialist, Office of Technology Transfer, National Institutes of Health, 6011 Executive Boulevard, Suite 325, Rockville, MD 20852-3804; Telephone: (301) 496-7056, ext. 285; Facsimile: (301) 402-0220; e-mail: MS482M@NIH.GOV.

SUPPLEMENTARY INFORMATION: The P2X7 receptor is expressed primarily in blood cells such as monocytes, macrophages, and lymphocytes. In addition, the receptor is found in the brain and in the salivary gland. In macrophages, activation of the P2X7 receptor triggers the processing and release of Interleukin 1β (IL-1β). In the immune system, activation of the P2X7 receptor leads to apoptosis. This invention relates to antagonists of the P2X7 receptor, which have high affinity for the receptor and can block ATP-induced toxic processes in blood cells. These antagonists are also useful in preventing apoptosis and in preventing the release of TNF-α and other inflammatory cytokines such as IL-1β.

The prospective exclusive license will be royalty-bearing and will comply with the terms and conditions of 35 U.S.C. 209 and 37 CFR 404.7. The prospective exclusive license may be granted unless, within 90 days from the date of this published Notice, NIH receives written evidence and argument that establishes that the grant of the license would not be consistent with the requirements of 35 U.S.C. 209 and 37 CFR 404.7.

Properly filed competing applications for a license filed in response to this notice will be treated as objections to the contemplated license. Comments and objections submitted in response to this notice will not be made available for public inspection, and, to the extent permitted by law, will not be released under the Freedom of Information Act, 5 U.S.C. 552.

Dated: August 22, 2002.
Jack Spiegel,
Director, Division of Technology Development and Transfer, Office of Technology Transfer.

[FR Doc. 02-22076 Filed 8-28-02; 8:45 am]

BILLING CODE 4140-01-P